DEPARTMENT OF HOMELAND SECURITY

Coast Guard

[USCG-2005-23285]

Collection of Information Under Review by Office of Management and Budget: OMB Control Number 1625-0048

AGENCY: Coast Guard, DHS.

ACTION: Request for comments.

SUMMARY: In compliance with the Paperwork Reduction Act of 1995, the U.S. Coast Guard intends to seek the approval of OMB for the renewal of an Information Collection Request (ICR). The ICR is 1625-0048, Vessel Reporting Requirements. Before submitting the ICRs to OMB, the Coast Guard is inviting comments on them as described below.

DATES: Comments must reach the Coast Guard on or before February 21, 2006.

ADDRESSES: To make sure that your comments and related material do not enter the docket [USCG-2005-23285] more than once, please submit them by only one of the following means:

(1) By mail to the Docket Management Facility, U.S. Department of Transportation (DOT), room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICR are available through this docket on the Internet at http://dms.dot.gov, and also from Commandant (CG-611), U.S. Coast Guard Headquarters, room 6106 (Attn: Mr. Arthur Requina), 2100 Second Street SW., Washington, DC 20593-0001. The telephone number is 202-475-3523.

FOR FURTHER INFORMATION CONTACT: Mr. Arthur Requina, Office of Information Management, telephone 202-475-3523, or fax 202-475-3929, for questions on these documents; or telephone Ms. Renee V. Wright, Program Manager, Docket Operations, 202-493-0402, for questions on the docket.

SUPPLEMENTARY INFORMATION:

Public Participation and Request for Comments

We encourage you to respond to this request for comments by submitting comments and related materials. We will post all comments received, without change, to http://dms.dot.gov; they will include any personal information you have provided. We have an agreement with DOT to use the Docket Management Facility. Please see the paragraph on DOT's “Privacy Act Policy” below.

Submitting comments: If you submit a comment, please include your name and address, identify the docket number [USCG-2005-23285], indicate the specific section of the document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Request

1. Title: Vessel Reporting Requirements.

OMB Control Number: 1625-0048.

Summary: The information obtained from these reports will be used by the Coast Guard to determine if the vessel reported on is in distress and if so, to take action to provide needed assistance. These reports (a) increase the likelihood of timely assistance to vessels in distress, especially those that cannot communicate their distress to the vessel's owner or others in a position to help, and (b) to place a burden of responsibility upon the owner, charterer, managing operator or agent for the safety of the vessels. This is of the utmost importance since these persons are often the only ones with knowledge of the vessels' intended movements.

Need: Paragraph (a) of 46 U.S.C. 2306 requires the owner, charterer, managing operator or agent of a vessel of the United States to immediately notify the Coast Guard if there is reason to believe that the vessel may have been lost or imperiled. Further, the owner, charterer, managing operator or agent of a vessel required to report to the United States Flag Merchant Vessel Location Filing System (USMER) must immediately notify the Coast Guard if more than 48 hours have passed since last receiving communication from the vessel. These reports must be followed by written communication submitted to the Coast Guard within 24 hours. Paragraph (c) of 46 U.S.C. 2306 gives the Secretary of Transportation authority to prescribe regulations to carry out 46 U.S.C. 2306. The Secretary has delegated this 46 U.S.C. 2306 responsibility to the Coast Guard in Department of Homeland Security Delegation No. 0170-2(92)(a). The Coast Guard has implemented these reporting requirements for all vessels regulated under Title 46 CFR. The implementing regulations are 46 CFR Part 4.

Respondents: Owners, charterers, managing operators or agents of a vessel of the United States.

Frequency: On occasion.

Burden Estimate: The estimated burden remains 137 hours a year.

Dated: December 19, 2005.
R.T. Hewitt,
Rear Admiral, Assistant Commandant for Command, Control, Communications, Computers and Information Technology.

[FR Doc. E5-7793 Filed 12-22-05; 8:45 am]

BILLING CODE 4910-15-P